NUCLEAR REGULATORY COMMISSION

[NRC-2012-0025]

Biweekly Notice; Applications and Amendments to Facility Operating Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from January 12, 2012 to January 25, 2012. The last biweekly notice was published on January 24, 2012 (77 FR 3508).

ADDRESSES: Please include Docket ID NRC-2012-0025 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2012-0025. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1 (800) 397-4209, (301) 415-4737, or by email to pdr.resource@nrc.gov.

• Federal Rulemaking Web Site: Public comments and supporting materials related to this notice can be found at http://www.regulations.gov by searching on Docket ID NRC-2012-0025.

Notice of Consideration of Issuance of Amendments to Facility Operating Licenses, Proposed No Significant Hazards Consideration Determination and Opportunity for a Hearing

The Commission has made a proposed determination that the following amendment requests involve no significant hazards consideration. Under the Commission's regulations in Title 10 of the Code of Federal Regulations (10 CFR), 50.92, this means that operation of the facility in accordance with the proposed amendment would not (1) involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the NRC's PDR, located at One White Flint North, Room O1-F21, 11555 Rockville Pike (first floor), Rockville, Maryland 20874. The NRC's regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at (301) 415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-(866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are available online through ADAMS in the NRC Library at http://www.nrc.gov/reading-rm/adams.html. Persons who do not have access to ADAMS or who encounter problems in accessing the documents located in ADAMS should contact the NRC's PDR Reference staff at 1-(800) 397-4209, (301) 415-4737, or by email to pdr.resource@nrc.gov.

Entergy Gulf States Louisiana, LLC, and Entergy Operations, Inc., Docket No. 50-458, River Bend Station, Unit 1, West Feliciana Parish, Louisiana

Date of amendment request: July 27, 2011, as supplemented by letter dated September 16, 2011.

Description of amendment request: The amendment would modify Technical Specification (TS) 3.3.6.1, “Primary Containment and Drywell Isolation Instrumentation,” to revise the allowable value setpoints for the Main Steam Tunnel Temperature functions. Specifically, the amendment would modify TS Table 3.3.6.1-1, items; 1.e, “Main Steam Tunnel Temperature-High,” 3.f. “Main Steam Line Tunnel Ambient Temperature-High,” and 4.h, “Main Steam Line Tunnel Ambient Temperature-High.” This setpoint revision is based upon a revision to the analytical limit calculation. The change will provide additional margin for elevated temperatures in the Main Steam Tunnel—North during the summer reliability period. In addition, the amendment would revise the River Bend Station (RBS) Emergency Plan by modifying the Emergency Action Levels (EAL) in support of the proposed changes to TS 3.3.6.1.

Basis for proposed no significant hazards consideration determination: As required by 10 CFR 50.91(a), the licensee has provided its analysis of the issue of no significant hazards consideration, which is presented below:

1. Does the proposed change involve a significant increase in the probability or consequences of an accident previously evaluated?

Response: No.

The proposed change increases the Technical Specification allowable value for the main steam tunnel ambient temperature isolation instrumentation for the main steam line isolation, Reactor Core Isolation Cooling System isolation and the Reactor Water Cleanup System isolation. This TS change does not introduce the possibility of an increase in the probability or consequences of an accident because the basis for the instrument setpoint is not being changed as a result of this request. The proposed TS change involves no physical alteration of the plant. The proposed TS change does not degrade the performance of, or increase the challenges to, any safety systems assumed to function in the accident analysis. Therefore, the proposed change does not involve a significant increase in the probability of an accident previously evaluated.

The consequences of a previously evaluated accident are not significantly increased. The proposed change does not affect the performance of any equipment credited to mitigate the radiological consequences of an accident. The basis for the main steam tunnel ambient temperature isolation instrumentation has not changed as a result of this proposed Allowable value change.

The proposed change to the Emergency Action Level (EAL) does not increase the probability of an accident. The change only impacts the initial condition for entry into the Emergency Plan and thus has no impact on the probability of an event. The proposed change to the Emergency Action Level (EAL) does not increase the consequences of an accident. As described in the Technical Analysis the revised setpoint continues to support the current licensing basis and event analysis.

Because the process, personnel, and equipment involved in implementing the Emergency Plan would complete the same functions as those completed under the existing Emergency Plan, the plan would continue to ensure adequate protection of public health and safety.

Therefore, the proposed change does not involve a significant increase in the probability or consequences of an accident previously evaluated.

2. Does the proposed change create the possibility of a new or different kind of accident from any accident previously evaluated?

Response: No.

As discussed above, the proposed change involves increasing the TS allowable value for the main steam tunnel ambient temperature isolation instrumentation for the main steam line isolation, Reactor Core Isolation Cooling System isolation and the Reactor Water Cleanup System isolation. The proposed TS change does not introduce any failure mechanisms of a different type than those previously evaluated, since there are no physical changes being made to the facility. No new or different equipment is being installed. No installed equipment is being operated in a different manner. The computer program being used has been previously used and reviewed. As a result, no new failure modes are being introduced. There are no new types of failures or new or different kinds of accidents or transients that could be created by these changes.

The change affects the implementation of the Emergency Plan by changing the EALs temperature value for entry into the Emergency Plan; however, the basis for the temperature value is not changed. The change to the EAL does not impact any plant equipment or systems needed to respond to an accident, nor does it change the results of an analysis of plant accident consequences.

Therefore, the proposed change does not create the possibility of a new or different kind of accident from any previously evaluated.

3. Does the proposed change involve a significant reduction in a margin of safety?

Response: No.

As discussed above, the proposed change involves increasing the TS allowable value for the for the main steam tunnel ambient temperature isolation instrumentation, the main steam line isolation, the Reactor Core Isolation Cooling System isolation and the Reactor Water Cleanup System isolation. The effect of this change on system availability is not significant, based on the determination that the basis for the allowable values is not being revised. The proposed change does not adversely affect the condition or performance of structures, systems, and components relied upon for accident mitigation. The proposed change does not result in any hardware changes. Existing operating margin between plant conditions and actual plant setpoints is not significantly reduced due to these changes. The proposed change does not significantly impact any safety analysis assumptions or results.

The change to the Emergency Plan does not reduce the margin of safety currently provided by the plan. As discussed in this submittal the change does not revise the design criteria of detecting a 25 gpm [gallon per minute] leak. Also the methods used to determine the revised analytical limit and setpoint values are currently' accepted. The proposed change does not impact other design basis evaluations or consequences. Therefore the changes do not affect a margin of safety identified in the plant accident analysis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Entergy Operations, Inc., System Energy Resources, Inc., South Mississippi Electric Power Association, and Entergy Mississippi, Inc., Docket No. 50-416, Grand Gulf Nuclear Station, Unit 1, Claiborne County, Mississippi

Date of amendment request: January 23, 2012.

Description of amendment request: The amendment would revise Technical Specification (TS) 3.1.7, “Standby Liquid Control (SLC) System.” Implementation of the Grand Gulf Nuclear Station (GGNS) Cycle 19 core design results in increased core reactivity, which requires a corresponding increase in negative reactivity to be provided by the SLC system. The proposed TS changes reflect the change in the enrichment of the boron-10 (B-10) isotope in the sodium pentaborate (SPB) solution, which is the credited neutron absorber. Increasing the enrichment of the B-10 isotope in the SPB solution effectively increases the available negative reactivity inserted by the SLC system without having to increase the system's storage capacity. The proposed change is needed to ensure appropriate shutdown margin can be maintained during reload design for future cycles beginning with Cycle 19. In addition, TS 3.1.7 will be modified from a graphical limiting condition for operation (LCO) to an LCO based on the product of the SPB solution concentration (C) and the B-10 enrichment (E) in the SPB solution being greater than or equal to 420.

Basis for proposed no significant hazards consideration determination: As required by 10 CFR 50.91(a), the licensee has provided its analysis of the issue of no significant hazards consideration, which is presented below:

1. Does the proposed change involve a significant increase in the probability or consequences of an accident previously evaluated?

Response: No.

The SLC system is designed to provide the capability of bringing the reactor, at any time in a fuel cycle, from full power and minimum control rod inventory to a subcritical condition with the reactor in the most reactive xenon-free state without taking credit for control rod movement. The SLC system design satisfies the requirements of 10 CFR 50.62, Requirements for the Reduction of Risk from Anticipated Transients without Scram (ATWS) Events for Light-Water-Cooled Nuclear Power Plants. The proposed changes to the SPB solution requirements maintain the capability of the SLC system to perform this reactivity control function and ensure continued compliance with the requirements of 10 CFR 50.62.

The SLC system is not considered to be an initiator of any event. The use of the proposed SPB solution enriched with the B-10 isotope does not alter the design, function, or operation of the SLC system or increase the likelihood of a system malfunction that could increase the consequences of an accident.

Therefore, the proposed changes do not involve a significant increase in the probability or consequences of an accident previously evaluated.

2. Does the proposed change create the possibility of a new or different kind of accident from any accident previously evaluated?

Response: No.

The proposed changes to the SLC system do not alter the design, function, or operation of the SLC system. The proposed change in SPB concentration, B-10 enrichment, SPB storage volume, and pump discharge pressure will continue to ensure shutdown of the reactor in the most reactive xenon-free state without taking credit for control rod movement. The proposed change in solution temperature continues to ensure the boron remains in solution and does not precipitate out of the SLC storage tank or in the SLC piping. The change in solution temperature also ensures adequate net positive suction head is available for SLC pump operation.

Therefore, the proposed changes do not create the possibility of a new or different kind of accident from any previously evaluated.

3. Does the proposed change involve a significant reduction in a margin of safety?

Response: No.

In the event of injection, the proposed change results in an increase in the margin between the final B-10 concentration in the reactor vessel and concentration required for shutdown. Thus, the proposed change results in additional safety margin being provided.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Southern Nuclear Operating Company, Inc., Georgia Power Company, Oglethorpe Power Corporation, Municipal Electric Authority of Georgia, City of Dalton, Georgia, Docket Nos.: 50-321 and 50-366, Edwin I. Hatch Nuclear Plant (HNP), Units 1 and 2, Appling County, Georgia

Date of amendment request: December 15, 2011.

Description of amendment request: The proposed amendments would revise Technical Specification (TS) Limiting Condition for Operation (LCO) 3.7.2 for the plant service water (PSW) and ultimate heat sink (UHS). Specifically, surveillance requirement (SR) 3.7.2.1 minimum water level in each PSW pump well of the intake structure would be revised from the existing value of 60.7 feet (ft) mean sea level (MSL) to 60.5 ft MSL. This change is based on updated design basis analyses that demonstrate that at the new minimum level of 60.5 ft MSL sufficient water inventory remains available from the Altamaha River for PSW and residual heat removal service water (RHRSW) to handle Loss of Coolant Accident (LOCA) cooling requirements for 30 days post-accident with no additional makeup water source available.

Basis for proposed no significant hazards consideration determination: As required by Title 10 of the Code of Federal Regulation (10 CFR), Section 50.91(a), the licensee has provided its analysis of the issue of no significant hazards consideration, which is presented below:

1. Does the proposed amendment involve a significant increase in the probability or consequences of an accident previously evaluated?

Response: No.

The proposed TS change revises the minimum water level in the PSW pump well, as required by SR 3.7.2.1, from 60.7 ft MSL to 60.5 ft MSL. TS SR 3.7.2.1 verifies that the ultimate heat sink (UHS) is OPERABLE by ensuring the water level in the PSW pump well of the intake structure is sufficient for the PSW, RHRSW, and standby service water pumps to supply post-LOCA cooling requirements for 30 days. The safety function of the UHS is to mitigate the impact of an accident. The proposed TS change does not result in or require any physical changes to HNP systems, structures, and components, including those intended for the prevention of accidents. The potential impact of the lower PSW pump well minimum water level on pump operation requirements, supply of water for 30 days post-LOCA, and potential environmental impact have been evaluated and found to be acceptable.

Therefore, the proposed change does not involve a significant increase in the probability or consequences of an accident previously evaluated.

2. Does the proposed amendment create the possibility of a new or different kind of accident from any accident previously evaluated?

Response: No.

The proposed TS change revises the minimum water level in the PSW pump well, as required by SR 3.7.2.1, from 60.7 ft MSL to 60.5 ft MSL. TS SR 3.7.2.1 verifies that the UHS is OPERABLE by ensuring the water level in the PSW pump well of the intake structure is sufficient for the PSW, RHRSW and standby service water pumps to supply post-LOCA cooling requirements for 30 days. The proposed TS change does not result in or require any physical changes to HNP systems, structures, and components. The potential impact of the lower PSW pump well minimum water level on pump operation requirements, supply of water for 30 days post-LOCA, and potential environmental impact have been evaluated and found to be acceptable.

Therefore, the proposed change does not create the possibility of a new or different kind of accident from any previously evaluated.

3. Does the proposed amendment involve a significant reduction in a margin of safety?

Response: No.

The proposed TS change revises the minimum water level in the PSW pump well, as required by SR 3.7.2.1, from 60.7 ft MSL to 60.5 ft MSL. TS SR 3.7.2.1 verifies that the UHS is OPERABLE by ensuring the water level in the PSW pump well of the intake structure is sufficient for the PSW, RHRSW and standby service water pumps to supply post-LOCA cooling requirements for 30 days. The proposed TS change does not result in or require any physical changes to HNP systems, structures, and components. The potential impact of the lower PSW pump well minimum water level on pump operation requirements, supply of water for 30 days post-LOCA, and potential environmental impact have been evaluated and found to be acceptable.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ernest L. Blake, Jr., Esquire, Shaw, Pittman, Potts and Trowbridge, 2300 N Street NW., Washington, DC 20037.

NRC Branch Chief: Nancy Salgado.

Southern Nuclear Operating Company, Inc., Docket No. 50-425, Vogtle Electric Generating Plant, Unit 2, Burke County, Georgia

Date of amendment request: December 19, 2011.

Description of amendment request: The proposed amendments would revise technical specification (TS) 3.7.14 “Engineered Safety Features (ESF) Room Cooler and Safety-Related Chiller.” Specifically, the limiting condition of operation (LCO) allowed completion time for TS 3.7.14 Condition A would be extended from 72 hours to 9 days, on a one-time only basis. Also proposed is an editorial change to delete a note added as an emergency change to TS 3.7.14, which had been added in response to an emergency license amendment request dated August 18, 2010 (Agencywide Document Access and Management System Accession No. ML102300574).

Basis for proposed no significant hazards consideration determination: As required by Title 10 of the Code of Federal Regulation (10 CFR) 50.91(a), the licensee has provided its analysis of the issue of no significant hazards consideration, which is presented below:

1. Does the proposed license amendment involve a significant increase in the probability or consequences of an accident previously evaluated?

The proposed changes do not alter any plant equipment or operating practices in such a manner that the probability of an accident is increased. The proposed changes will not alter assumptions relative to the mitigation of an accident or transient event. Therefore, the proposed changes do not involve a significant increase in the probability or consequences of an accident previously evaluated.

2. Does the proposed license amendment create the possibility of a new or different kind of accident from any accident previously evaluated?

The proposed changes do not involve any physical alteration of the plant or significant change in the methods governing normal plant operation. Therefore, the proposed changes do not create the possibility of a new or different kind of accident from any accident previously evaluated.

3. Does the proposed amendment involve a significant reduction in a margin of safety?

Based on the operability of the remaining ESF Room Cooler and Safety-Related Chiller Train 2A, the accident analysis assumptions continue to be met with enactment of the proposed changes. The system design and operation are not affected by the proposed changes. The safety analysis acceptance criteria are not altered by the proposed changes. Finally, the proposed compensatory measures will provide further assurance that no significant reduction in a safety margin will occur.

The NRC staff has reviewed the licensee's analysis and, based on this review, it appears that the three standards of 10 CFR 50.92(c) are satisfied. Therefore, the NRC staff proposes to determine that the amendment request involves no significant hazards consideration.

Attorney for licensee: Mr. Arthur H. Domby, Troutman Sanders, NationsBank Plaza, Suite 5200, 600 Peachtree Street, NE., Atlanta, Georgia 30308-2216.

NRC Branch Chief: Nancy Salgado.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible online through the Agencywide Documents Access and Management System (ADAMS) in the NRC Library at http://www.nrc.gov/reading-rm/adams.html. If you do not have access to ADAMS or if there are problems in accessing the documents located in ADAMS, contact the NRC's PDR Reference staff at 1-(800) 397-4209, (301) 415-4737 or by email to pdr.resource@nrc.gov.

Entergy Nuclear Operations, Inc., Docket No. 50-255, Palisades Nuclear Plant, Van Buren County, Michigan

Date of application for amendment: August 16, 2011, supplemented by letter dated October 6, 2011.

Brief description of amendment: The proposed amendment would revise Technical Specification (TS) Section 5.5.14, “Containment Leak Rate Testing Program” to increase the value of the calculated peak containment internal pressure from 53 pounds per square inch gauge (psig) to 54.2 psig. This increase is due to an increase in the calculated mass and energy release during the blowdown phase of the design basis loss-of-coolant accident (LOCA). The increase in the predicted mass and energy release is due to the correction of an error in the calculation of the current value of Pa. The regulations at 10 CFR part 50, Appendix J Option B define Pa as the calculated peak containment internal pressure related to the design basis LOCA as specified in the TS and specifies the requirements for containment leakage rate testing.

Date of issuance: January 19, 2012.

Effective date: As of the date of issuance and shall be implemented within 60 days.

Amendment No.: 244.

Facility Operating License No. DPR-20: Amendment revised the Technical Specifications.

Date of initial notice in Federal Register: November 15, 2011, (76 FR 70773). The supplemental letters contained clarifying information and did not change the initial no significant hazards consideration determination, and did not expand the scope of the original Federal Register notice.

The Commission's related evaluation of the amendment is contained in a Safety Evaluation dated January 19, 2012.

No significant hazards consideration comments received: No.

Entergy Nuclear Operations, Inc., Docket No. 50-255, Palisades Nuclear Plant, Van Buren County, Michigan

Date of application for amendment: March 7, 2011.

Brief description of amendment: The amendment revises the facility's Technical Specifications to add an applicability period of 42.1 effective full-power years to the existing pressure-temperature limit curves and low temperature overpressure protection system requirements for PNP.

Date of issuance: January 19, 2012.

Effective date: As of the date of issuance and shall be implemented within 30 days.

Amendment No.: 245.

Facility Operating License No. DPR-20: Amendment revised the Technical Specifications.

Date of initial notice in Federal Register: May 17, 2011, (76 FR 28472).

The Commission's related evaluation of the amendment is contained in a Safety Evaluation dated January 19, 2012.

No significant hazards consideration comments received: No.

Northern States Power Company—Minnesota, Docket No. 50-263, Monticello Nuclear Generating Plant, Wright County, Minnesota

Date of application for amendment: February 7, 2011, as supplemented on December 22, 2011.

Brief description of amendment: The amendment revises the Technical Specifications, Section 3.5.1, “ECCS [Emergency Core Cooling System]—Operating,” and 3.5.2, “ECCS—Shutdown,” to increase the minimum flow rate of the core spray pumps from ≥2,800 gallons per minute (gpm) to ≥2,835 gpm.

Date of issuance: January 11, 2012.

Effective date: This license amendment is effective as of the date of its issuance, to be implemented within 120 days of issuance.

Amendment No.: 167.

Facility Operating License No. DPR-22: Amendment revised the Renewed Facility Operating License and Appendix A, Technical Specifications.

Date of initial notice in Federal Register: April 19, 2011 (76 FR 21923).

The licensee's supplemental letter contained clarifying information, did not change the scope of the original license amendment request, did not change the NRC staff's initial proposed finding of no significant hazards consideration determination, and did not expand the scope of the original Federal Register notice.

The Commission's related evaluation of the amendment is contained in a Safety Evaluation dated January 11, 2012.

No significant hazards consideration comments received: No.

For the Nuclear Regulatory Commission.
Dated at Rockville, Maryland, this 27th day of January 2012.
Michele G. Evans,
Director, Division of Operating Reactor Licensing, Office of Nuclear Reactor Regulation.

[FR Doc. 2012-2594 Filed 2-6-12; 8:45 am]

BILLING CODE 7590-01-P